DEPARTMENT OF LABOR

Employment and Training Administration

[TA-W-38,555; TA-W-38,555A]

Tee Jays Manufacturing Co., Inc.; Certification Regarding Eligibility To Apply for Worker Adjustment Assistance

In accordance with Section 223 of the Trade Act of 1974 (19 U.S.C. 2273) as amended by the Omnibus Trade and Competitiveness Act of 1988 (P.L. 100-418), the Department of Labor herein presents the results of an investigation regarding certification of eligibility to apply for worker adjustment assistance.

In order to make an affirmative determination and issue a certification of eligibility to apply for adjustment assistance each of the group eligibility requirements of Section 222 of the Act must be met. It is determined that all of the requirements have been met.

The investigation was initiated in response to a petition received on January 18, 2001, filed on behalf of workers at Tee Jays Manufacturing Co., Inc., Florence, Alabama (Plants 1, 5, 6, 14, 15, and 16) and Elgin, Alabama (Plant 9). The workers are engaged in the production of tee shirts and sweat shirts. In Florence, Alabama, petitioning plants include Plant 1 (sewing and cutting), Plant 5, (warehousing and administration), Plant 6 (sewing), Plant 14 (dyeing and sewing), Plant 15 (warehousing) and Plant 16 (sewing). In Elgin, the petitioning facility is Plant 9 (sewing).

Investigation findings revealed that production and employment at the Florence and Elgin, Alabama facilities have declined during the relevant period. The company has increased its imports of tee shirts and sweat shirts, causing separations at the subject plants.

Conclusion

After careful review of the facts obtained in the investigation, I conclude that increases of imports of articles like or directly competitive with tee shirts and sweat shirts manufactured at Tee Jays Manufacturing Co., Inc., Florence and Elgin, Alabama, contributed importantly to the total or partial separation of workers of that firm. In accordance with the provisions of the Act, I make the following certification:

“All workers of Tee Jays Manufacturing Co., Inc., Florence, Alabama (Plants 1, 5, 6, 14, 15, and 16) and Elgin, Alabama (Plant 9), who became totally or partially separated from employment on or after January 3, 2000, through two years from the date of certification are eligible to apply for adjustment assistance under Section 223 of the Trade Act of 1974.”

Signed in Washington, DC this 8th day of February, 2001.
Linda G. Poole,
Certifying Officer, Division of Trade Adjustment Assistance.

[FR Doc. 01-20468 Filed 8-14-01; 8:45 am]

BILLING CODE 4510-30-M